DEPARTMENT OF TRANSPORTATION

Federal Highway Administration

Environmental Impact Statement; Harris and Brazoria Counties, TX

AGENCY: Federal Highway Administration (FHWA), TxDOT.

ACTION: Notice of intent.

SUMMARY: The FHWA is issuing this notice to advise the public that an environmental impact statement will be prepared for a proposed highway project to improve State Highway 35 in Harris and Brazoria Counties, Texas.

FOR FURTHER INFORMATION CONTACT: Mr. John Mack, P.E., Federal Highway Administration, Texas Division, 300 East 8th Street, Room 826, Austin, Texas 78701, Telephone (512) 536-5960.

SUPPLEMENTARY INFORMATION: The FHWA, in cooperation with the Texas Department of Transportation (TxDOT), will prepare an Environmental Impact Statement (EIS) on a proposal for transportation improvements within the State Highway 35 corridor from Bellfort Road in Harris County to Farm-to-Market Road 1462 in Brazoria County. The EIS will be conducted concurrently with a Major Corridor Feasibility Study (MCFS) that will examine and evaluate all reasonable and feasible modal alternatives for transportation improvements within the State Highway 35 corridor from Interstate Highway 45 to State Highway 288 in Angleton. The proposed action could include a combination of highway, toll, and transit components for the facility of approximately 22 miles in length, built on a new location within the above limits. The majority of the corridor crosses heavily urbanized regions of Harris and Brazoria Counties. Cities and towns in the region include the cities of Houston, Brookside Village, Pearland, and Alvin.

Alternatives to be studied include “No-action” (the no-build alternative), Transportation System Management (TSM)/Transportation Demand Management (TDM) alternative, mass transit alternative and roadway build alternatives. The EIS will evaluate potential impacts from construction and operation of the proposed transportation improvements including, but not limited to, the following: transportation impacts (construction detours, construction traffic, mobility improvement and evacuation route improvements), air and noise impacts from construction equipment and operation of the facility, water quality impacts from construction area and roadway storm water runoff, impacts to waters of the United States including wetlands from right of way encroachment, impacts to historic and archeological resources, impacts to floodplains, and impacts and/or potential displacements to residents and businesses.

Letters describing the proposed action and soliciting comments will be sent to appropriate Federal, State and local agencies, and to private organizations and citizens who have previously expressed or are known to have interest in this proposal. Public meetings will be held on dates to be determined at a later time. A formal scoping meeting will be held in January 2004. In addition, a public hearing will be held. Public notice will be given of the time and place of the meetings and hearing. A copy of the Draft EIS will be made available for public review prior to the public hearing. To ensure that the full range of issues related to this proposed action are addressed and all significant issues identified, comments and suggestions are invited from all interested parties. Comments or questions concerning this proposed action and the EIS should be directed to FHWA at the address provided above.

(Catalog of Federal Domestic Assistance Program Number 20.205 Highway Planning and Construction. The regulations implementing Executive Order 12372 regarding governmental consultation on federal programs and activities apply to this program.)
John R. Mack,
District Engineer.

[FR Doc. 03-27364 Filed 10-22-03; 8:45 am]

BILLING CODE 4910-22-M